DEPARTMENT OF THE INTERIOR

Bureau of Land Management

[WO640 1020 XQ 24 1E]

Call for Nominations for Resource Advisory Councils

AGENCY: Bureau of Land Management, Interior.

ACTION: Notice of Resource Advisory Council call for nominations.

SUMMARY: The purpose of this notice is to solicit public nominations for each of the Bureau of Land Management (BLM) Resource Advisory Councils (RACs) that have member terms expiring this year. The RACs provide advice and recommendations to BLM on land use planning and management of the public lands within their geographic areas. Public nominations will be considered for 45 days after the publication date of this notice.

The Federal Land Policy and Management Act (FLPMA) directs the Secretary of the Interior to involve the public in planning and issues related to management of lands administered by BLM.

Section 309 of FLPMA directs the Secretary to select 10 to 15 member citizen-based advisory councils that are established and authorized consistent with the requirements of the Federal Advisory Committee Act (FACA). As required by the FACA, RAC members appointed to the RAC must be balanced and representative of the various interests concerned with the management of the public lands. These include three categories:

Category One—Holders of federal grazing permits and representatives of energy and mineral development, timber industry, transportation or rights-of-way, off-highway vehicle use, and commercial recreation;

Category Two—Representatives of nationally or regionally recognized environmental organizations, archaeological and historic interests, dispersed recreation, and wild horse and burro groups;

Category Three—Holders of State, county or local elected office, employees of a State agency responsible for management of natural resources, academicians involved in natural sciences, representatives of Indian tribes, and the public-at-large.

Individuals may nominate themselves or others. Nominees must be residents of the State or States in which the RAC has jurisdiction. Nominees will be evaluated based on their education, training, and experience and their knowledge of the geographical area of the RAC. Nominees should have demonstrated a commitment to collaborative resource decisionmaking. All nominations must be accompanied by letters of reference from represented interests or organizations, a completed background information nomination form, as well as any other information that speaks to the nominee's qualifications.

Simultaneous with this notice, BLM State Offices will issue press releases providing additional information for submitting nominations, with specifics about the number and categories of member positions available for each RAC in the State. Nominations for RACs should be sent to the appropriate BLM offices listed below.

Alaska

Alaska RAC

Theresa McPherson, Alaska State Office, BLM, 222 West 7th Avenue, #13, Anchorage, Alaska 99513-7599, (907) 271-3322

Arizona

Arizona RAC

Deborah Stevens, Arizona State Office, BLM, 222 N. Central Avenue, Phoenix, Arizona 85004-2203, (602) 417-9215

California

Central California RAC

Larry Mercer, Bakersfield Field Office, BLM, 3801 Pegasus Avenue, Bakersfield, California 93308, (661) 391-6000

Northeastern California RAC

Jeff Fontana, Eagle Lake Field Office, BLM, 2950 Riverside Drive, Susanville, California 96130, (530) 257-0456

Northwestern California RAC

Jeff Fontana, Eagle Lake Field Office, BLM, 2950 Riverside Drive, Susanville, California 96130, (530) 257-0456

Colorado

Front Range RAC; Southwest RAC; Northwest RAC

Sheri Bell, Colorado State Office, BLM, 2850 Youngfield Street, Lakewood, Colorado 80215, (303) 239-3671

Idaho

Upper Columbia RAC; Upper Snake RAC; Lower Snake RAC

Jerry Rohnert, Idaho State Office, BLM, 1387 Vinnell Way, Boise, Idaho 83709, (208) 373-4017

Montana and Dakotas

Eastern Montana RAC; Central Montana RAC; Western Montana RAC; Dakotas RAC

Jodi Weil, Montana State Office, BLM, 5001 Southgate Drive, Billings, Montana 59101, (406) 896-5258

Nevada

Mojave-Southern RAC; Northeastern Great Basin RAC; Sierra Front Northwestern RAC

Bob Stewart, Nevada State Office, BLM, 1340 Financial Boulevard, Reno, Nevada 89502-7147, (775) 861-6586

New Mexico

New Mexico RAC

Mary White, New Mexico State Office, BLM, P.O. Box 27115 Sante Fe, New Mexico 87502-0115, (505) 438-7404

Oregon/Washington

Eastern Washington RAC; John Day/Snake RAC; Southeast Oregon RAC

Pam Robbins, Medford District Office, BLM, 3040 Biddle Road, Medford, Oregon 97504, (541) 618-2456

Utah

Utah RAC

Sherry Foot, Utah State Office, BLM, 324 South State Street, Suite 301, P.O. Box 45155, Salt Lake City, Utah 84145-0155, (801) 539-4195

DATES: All nominations should be received by the appropriate BLM State Office by April 23, 2001.

FOR FURTHER INFORMATION CONTACT: Melanie Wilson, U.S. Department of the Interior, Bureau of Land Management, Intergovernmental Affairs, MS-LS-406, Washington, DC, 20240; 202-452-0377.

Dated: March 1, 2001.
Nina Rose Hatfield,
Acting Director, Bureau of Land Management.

[FR Doc. 01-5687 Filed 3-8-01; 8:45 am]

BILLING CODE 4310-84-P